DEPARTMENT OF ENERGY

Federal Energy Regulatory Commission

[Docket No. AD10-12-001]

Increasing Market and Planning Efficiency Through Improved Software; Notice Establishing Date for Comments

From June 28-30, 2011, Commission staff convened a technical conference to discuss opportunities for increasing real-time and day-ahead market efficiency through improved software.¹

¹ Notice of technical conference: increasing real-time and day-ahead market efficiency through improved software, 76 Fed. Reg. 28,022 (2011).

Parties wishing to submit written comments regarding the matters discussed at the technical conference should submit their comments in Docket No. AD10-12-001 on or before July 22, 2011.

Dated: July 8, 2011.
Kimberly D. Bose,
Secretary.

[FR Doc. 2011-17749 Filed 7-14-11; 8:45 am]

BILLING CODE 6717-01-P